DEPARTMENT OF ENERGY

Federal Energy Regulatory Commission

Combined Notice of Filings #1

Take notice that the Commission received the following electric corporate filings:

Docket Numbers: EC19-113-000.

Applicants: Golden State Water Company.

Description: Supplement to July 12, 2019 Application for Authorization Under Section 203 of the Federal Power Act [Revised Exhibit N] of Golden State Water Company.

Filed Date: 8/28/19.

Accession Number: 20190828-5072.

Comments Due: 5 p.m. ET 9/18/19.

Docket Numbers: EC19-129-000.

Applicants: Ambit Northeast, LLC.

Description: Application for Authorization Under Section 203 of the Federal Power Act, et al. of Ambit Northeast, LLC.

Filed Date: 8/28/19.

Accession Number: 20190828-5139.

Comments Due: 5 p.m. ET 9/18/19.

Take notice that the Commission received the following electric rate filings:

Docket Numbers: ER19-1762-001.

Applicants: Electric Energy, Inc.

Description: Compliance filing: Compliance to 2019 Att M and Att N to be effective 4/30/2019.

Filed Date: 8/28/19.

Accession Number: 20190828-5063.

Comments Due: 5 p.m. ET 9/18/19.

Docket Numbers: ER19-2150-001.

Applicants: Shawville Power, LLC.

Description: Compliance filing: Shawville Power LLC Compliance Filing to be effective 9/1/2019.

Filed Date: 8/28/19.

Accession Number: 20190828-5032.

Comments Due: 5 p.m. ET 9/18/19.

Docket Numbers: ER19-2151-001.

Applicants: New Castle Power, LLC.

Description: Compliance filing: New Castle Power Compliance Filing to be effective 9/1/2019.

Filed Date: 8/28/19.

Accession Number: 20190828-5033.

Comments Due: 5 p.m. ET 9/18/19.

Docket Numbers: ER19-2152-001.

Applicants: Brunot Island Power, LLC.

Description: Compliance filing: Brunot Island Power Compliance Filing to be effective 9/1/2019.

Filed Date: 8/28/19.

Accession Number: 20190828-5035.

Comments Due: 5 p.m. ET 9/18/19.

Docket Numbers: ER19-2153-001.

Applicants: Gilbert Power, LLC.

Description: Compliance filing: Gilbert Power Compliance Filing to be effective 9/1/2019.

Filed Date: 8/28/19.

Accession Number: 20190828-5036.

Comments Due: 5 p.m. ET 9/18/19.

Docket Numbers: ER19-2154-001.

Applicants: Sayreville Power, LLC.

Description: Compliance filing: Sayreville Power Compliance Filing to be effective 9/1/2019.

Filed Date: 8/28/19.

Accession Number: 20190828-5037.

Comments Due: 5 p.m. ET 9/18/19.

Docket Numbers: ER19-2155-001.

Applicants: Portland Power, LLC.

Description: Compliance filing: Portland Power Compliance Filing to be effective 9/1/2019.

Filed Date: 8/28/19.

Accession Number: 20190828-5038.

Comments Due: 5 p.m. ET 9/18/19.

Docket Numbers: ER19-2156-001.

Applicants: Warren Generation, LLC.

Description: Compliance filing: Warren Generation Compliance Filing to be effective 9/1/2019.

Filed Date: 8/28/19.

Accession Number: 20190828-5039.

Comments Due: 5 p.m. ET 9/18/19.

Docket Numbers: ER19-2157-001.

Applicants: Mountain Power, LLC.

Description: Compliance filing: Mountain Power Compliance Filing to be effective 9/1/2019.

Filed Date: 8/28/19.

Accession Number: 20190828-5040.

Comments Due: 5 p.m. ET 9/18/19.

Docket Numbers: ER19-2158-001.

Applicants: Orrtanna Power, LLC.

Description: Compliance filing: Orrtanna Power Compliance Filing to be effective 9/1/2019.

Filed Date: 8/28/19.

Accession Number: 20190828-5041.

Comments Due: 5 p.m. ET 9/18/19.

Docket Numbers: ER19-2159-001.

Applicants: Shawnee Power, LLC.

Description: Compliance filing: Shawnee Power Compliance Filing to be effective 9/1/2019.

Filed Date: 8/28/19.

Accession Number: 20190828-5042.

Comments Due: 5 p.m. ET 9/18/19.

Docket Numbers: ER19-2160-001.

Applicants: Titus Power, LLC.

Description: Compliance filing: Titus Power Compliance Filing to be effective 9/1/2019.

Filed Date: 8/28/19.

Accession Number: 20190828-5043.

Comments Due: 5 p.m. ET 9/18/19.

Docket Numbers: ER19-2161-001.

Applicants: Hamilton Power, LLC.

Description: Compliance filing: Hamilton Power Compliance Filing to be effective 9/1/2019.

Filed Date: 8/28/19.

Accession Number: 20190828-5047.

Comments Due: 5 p.m. ET 9/18/19.

Docket Numbers: ER19-2162-001.

Applicants: Blossburg Power, LLC.

Description: Compliance filing: Blossburg Power Compliance Filing to be effective 9/1/2019.

Filed Date: 8/28/19.

Accession Number: 20190828-5052.

Comments Due: 5 p.m. ET 9/18/19.

Docket Numbers: ER19-2163-001.

Applicants: Hunterstown Power, LLC.

Description: Compliance filing: Hunterstown Power Compliance Filing to be effective 9/1/2019.

Filed Date: 8/28/19.

Accession Number: 20190828-5053.

Comments Due: 5 p.m. ET 9/18/19.

Docket Numbers: ER19-2164-001.

Applicants: Tolna Power, LLC.

Description: Compliance filing: Tolna Power Compliance Filing to be effective 9/1/2019.

Filed Date: 8/28/19.

Accession Number: 20190828-5057.

Comments Due: 5 p.m. ET 9/18/19.

Docket Numbers: ER19-2505-001.

Applicants: Southern California Edison Company.

Description: Tariff Amendment: Refile WDAT Energy Storage to be effective 10/30/2019.

Filed Date: 8/28/19.

Accession Number: 20190828-5130.

Comments Due: 5 p.m. ET 9/18/19.

Docket Numbers: ER19-2687-000.

Applicants: California Independent System Operator Corporation.

Description: § 205(d) Rate Filing: 2019-08-27 Transferred Frequency Response Agreement with Tacoma Power to be effective 12/1/2019.

Filed Date: 8/27/19.

Accession Number: 20190827-5101.

Comments Due: 5 p.m. ET 9/17/19.

Docket Numbers: ER19-2688-000.

Applicants: PJM Interconnection, L.L.C.

Description: § 205(d) Rate Filing: Original WMPA SA No. 5459; Queue No. AE1-041 to be effective 7/29/2019.

Filed Date: 8/27/19.

Accession Number: 20190827-5106.

Comments Due: 5 p.m. ET 9/17/19.

Docket Numbers: ER19-2689-000.

Applicants: California Independent System Operator Corporation.

Description: § 205(d) Rate Filing: 2019-08-27 Transferred Frequency Response Agreement with PUD No. 2 Grant Co. to be effective 12/1/2019.

Filed Date: 8/27/19.

Accession Number: 20190827-5117.

Comments Due: 5 p.m. ET 9/17/19.

Docket Numbers: ER19-2690-000.

Applicants: California Independent System Operator Corporation.

Description: § 205(d) Rate Filing: 2019-08-27 Transferred Frequency Response Agreement with PUD No. 1 Chelan Co. to be effective 12/1/2019.

Filed Date: 8/27/19.

Accession Number: 20190827-5119.

Comments Due: 5 p.m. ET 9/17/19.

Docket Numbers: ER19-2691-000.

Applicants: Southern California Edison Company.

Description: § 205(d) Rate Filing: GIA and Distribution Service Agmt SCEBESS-021 Project to be effective 8/29/2019.

Filed Date: 8/28/19.

Accession Number: 20190828-5001.

Comments Due: 5 p.m. ET 9/18/19.

Docket Numbers: ER19-2692-000.

Applicants: California Independent System Operator Corporation.

Description: § 205(d) Rate Filing: 2019-08-28 Transferred Frequency Response Agreement with Bonneville Power Admin to be effective 12/1/2019.

Filed Date: 8/28/19.

Accession Number: 20190828-5098.

Comments Due: 5 p.m. ET 9/18/19.

Docket Numbers: ER19-2693-000.

Applicants: California Independent System Operator Corporation.

Description: § 205(d) Rate Filing: 2019-08-28 Transferred Frequency Response Agreement with City of Seattle to be effective 12/1/2019.

Filed Date: 8/28/19.

Accession Number: 20190828-5103.

Comments Due: 5 p.m. ET 9/18/19.

Docket Numbers: ER19-2694-000.

Applicants: California Independent System Operator Corporation.

Description: § 205(d) Rate Filing: 2019-08-28 Transferred Frequency Response Agreement with Powerex to be effective 12/1/2019.

Filed Date: 8/28/19.

Accession Number: 20190828-5105.

Comments Due: 5 p.m. ET 9/18/19.

Docket Numbers: ER19-2695-000.

Applicants: Southwest Power Pool, Inc.

Description: § 205(d) Rate Filing: Revisions to Clarify Trading Hub Modification Process Language to be effective 10/28/2019.

Filed Date: 8/28/19.

Accession Number: 20190828-5108.

Comments Due: 5 p.m. ET 9/18/19.

Docket Numbers: ER19-2696-000.

Applicants: PJM Interconnection, L.L.C.

Description: § 205(d) Rate Filing: Amendment to ISA, SA No. 5159 and ICSA, SA No. 5189; Queue No. AB2-040 (amend) to be effective 8/8/2018.

Filed Date: 8/28/19.

Accession Number: 20190828-5116.

Comments Due: 5 p.m. ET 9/18/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 28, 2019.
Nathaniel J. Davis, Sr.,
Deputy Secretary.

[FR Doc. 2019-19036 Filed 9-3-19; 8:45 am]

BILLING CODE 6717-01-P